DEPARTMENT OF HEALTH AND HUMAN SERVICES

Centers for Disease Control and Prevention

[30Day-08-0672]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Indicators of the Performance of Local, State, Territorial, and Tribal Education Agencies in HIV Prevention, Coordinated School Health Program, and Asthma Management Activities for Adolescent and School Health Programs—Reinstatement—National Center for Chronic Disease Prevention and Health Promotion (NCCDPHP), Centers for Disease Control and Prevention (CDC).

Background and Brief Description

The proposed project is an annual Web-based questionnaire to assess programmatic activities among local education agencies (LEA) and state, territorial, and tribal government education agencies (SEAs, TEAs, and TGs) funded by the Division of Adolescent and School Health (DASH), Centers for Disease Control and Prevention. The questionnaires are referred to as the Indicators for School Health Programs.

Currently, the Indicators for School Health Programs are the only standardized annual reporting process for HIV prevention activities or coordinated school health program (CSHP) activities funded by DASH. There is no other standardized annual reporting process for HIV prevention activities or coordinated school health program (CSHP) activities among LEAs and SEAs/TEAs/TGs funded by DASH. The data being gathered via the questionnaires: (1) Provides standardized information about how HIV prevention, CSHP/physical activity, nutrition, and tobacco (PANT) use, and asthma management funds are used by LEAs and SEAs/TEAs/TGs; (2) assesses the extent to which programmatic adjustments are indicated; (3) provides descriptive and process information about program activities; and (4) provides greater accountability for use of public funds. The questionnaires are completed by the DASH-funded partners on a Web site managed by DASH. The questionnaires are to be completed ninety days after the end of each fiscal year.

The Web-based questionnaires correspond to the specific funding source from the Division of Adolescent and School Health: two questionnaires pertain to HIV-prevention program activities among LEAs and SEAs/TEAs/TGs; one pertains to CSHP/PANT activities among SEAs/TGs; and one pertains to asthma management activities among LEAs.

Two HIV prevention questionnaires include questions on project planning, materials distribution, professional development activities, provision of technical assistance, collaboration with external partners, and reducing health disparities among populations at disproportionate risk. CDC plans to implement minor changes in the HIV questionnaires beginning in year 2 of this clearance period.

The CSHP/PANT questionnaire focuses on the activities above as well as on physical activity, healthy eating, and tobacco-use prevention activities. CDC plans to implement minor changes in the CSHP/PANT questionnaire beginning in year 2 of this clearance period.

The asthma management questionnaire includes questions on project planning, materials distribution, professional development activities, provision of technical assistance, collaboration with external partners, reducing health disparities among populations at disproportionate risk, and health services. Information collection on asthma management programs will begin in year 2 of this clearance period.

There are no costs to respondents other than their time to complete the survey.

The total estimated annualized burden hours are 783.

Estimated Annualized Burden Hours:

Types of respondents | Form name | Number of respondents | Number of responses per respondent | Average burden per response (in hours)
Local Education Agency Officials | Indicators for School Health Programs: HIV Prevention (LEA) | 17 | 1 | 7
State and Territorial Education Agency Officials | Indicators for School Health Programs: HIV Prevention (SEA) | 55 | 1 | 7
State Education Agency Officials | Indicators for School Health Programs: Coordinated School Health Programs | 23 | 1 | 10
Local Education Agency Officials | Indicators for School Health Programs: Asthma Management (LEA) | 7 | 1 | 7

Dated: March 18, 2008.
Marilyn S. Radke,
Reports Clearance Officer, Centers for Disease Control and Prevention.

[FR Doc. E8-5861 Filed 3-21-08; 8:45 am]

BILLING CODE 4163-18-P